DEPARTMENT OF DEFENSE

Office of the Secretary

[Transmittal No. 19-33]

Arms Sales Notification

AGENCY: Defense Security Cooperation Agency, Department of Defense.

ACTION: Arms sales notice.

SUMMARY: The Department of Defense is publishing the unclassified text of an arms sales notification.

FOR FURTHER INFORMATION CONTACT: Karma Job at karma.d.job.civ@mail.mil or (703) 697-8976.

SUPPLEMENTARY INFORMATION: This 36(b)(1) arms sales notification is published to fulfill the requirements of section 155 of Public Law 104-164 dated July 21, 1996. The following is a copy of a letter to the Speaker of the House of Representatives, Transmittal 19-33 with attached Policy Justification and Sensitivity of Technology.

Dated: September 20, 2019.
Aaron T. Siegel,
Alternate OSD Federal Register Liaison Officer, Department of Defense.

BILLING CODE 5001-06-P

BILLING CODE 5001-06-C

Transmittal No. 19-33

Notice of Proposed Issuance of Letter of Offer Pursuant to Section 36(b)(1) of the Arms Export Control Act, as amended

(i) Prospective Purchaser: Government of Thailand

(ii) Total Estimated Value:

Major Defense Equipment * | $125 million
Other | $ 50 million
Total | $175 million

(iii) Description and Quantity or Quantities of Articles or Services under Consideration for Purchase:

Major Defense Equipment (MDE):

Sixty (60) Stryker Infantry Carrier Vehicles (ICV)

Sixty (60) M2 Flex .50 Cal Machine Guns

Non-MDE:

Also included are spare parts, Basic Issue Items (BII), Components of End Items (COEI), Additional Authorized List (AAL), Special Tools and Test Equipment (STTE), technical manuals, OCONUS Deprocessing Service, M6 smoke grenade launchers (4 per vehicle) and associated spares, AN/VAS-5 Driver's Vision Enhancer (DVE), AN/VIC-3 vehicle intercommunications system, contractor provided training and Field Service Representatives (FSR), and other related elements of logistics and program support.

(iv) Military Department: Army (TH-B-WGX)

(v) Prior Related Cases, if any: None

(vi) Sales Commission, Fee, etc., Paid, Offered, or Agreed to be Paid: None

(vii) Sensitivity of Technology Contained in the Defense Article or Defense Services Proposed to be Sold: See Annex Attached

(viii) Date Report Delivered to Congress: July 26, 2019

*As defined in Section 47(6) of the Arms Export Control Act.

POLICY JUSTIFICATION

Thailand - Stryker Infantry Carrier Vehicles

The Government of Thailand has requested to buy sixty (60) Stryker Infantry Carrier Vehicles (ICV); and sixty (60) M2 Flex .50 cal machine guns. Also included are spare parts, Basic Issue Items (BII), Components of End Items (COEI), Additional Authorized List (AAL) (specific items for operations and maintenance), Special Tools and Test Equipment (STTE), technical manuals, OCONUS Deprocessing Service, M6 smoke grenade launchers (4 per vehicle) and associated spares, AN/VAS-5 Driver's Vision Enhancer (DVE), AN/VIC-3 vehicle intercommunications system, contractor provided training and Field Service Representatives (FSR), and other related elements of logistics and program support. The total estimated program cost is $175 million.

This proposed sale will support the foreign policy and national security objectives of the United States by helping to improve security of a Major Non-NATO ally in INDO-PACOM which is an important force for political stability and economic progress in the region.

The Stryker vehicles will increase Thailand's capability to defend its sovereign territory against traditional and non-traditional threats by filling the capability void between light infantry soldiers and heavy mechanized units. Thailand will have no difficulty absorbing this equipment into its armed forces.

The proposed sale of this equipment and support will not alter the basic military balance in the region.

The principal contractor for the Stryker vehicle is General Dynamics Land Systems, Sterling Heights, MI. There are no known offset agreements proposed in connection with this potential sale.

Implementation of this proposed sale will not require the assignment of any permanent additional U.S. Government or Contractor representatives to Thailand.

There will be no adverse impact on U.S. defense readiness as a result of this proposed sale.

Transmittal No. 19-33

Notice of Proposed Issuance of Letter of Offer Pursuant to Section 36(b)(1) of the Arms Export Control Act

Annex

Item No. vii

(vii) Sensitivity of Technology:

1. The M1126 Stryker is an infantry carrier vehicle transporting nine soldiers, their mission equipment and a crew of two consisting of a driver and vehicle commander. It is equipped with armor protection, M2 machine guns and M6 Smoke Grenade Launchers for self-protection. The Stryker is an eight-wheeled vehicle powered by a 350hp diesel engine. It incorporates a central tire inflation system, run-flat tires, and a vehicle height management system. The Stryker is capable of supporting a communications suite, a Global Positioning System (GPS), and a high frequency and near-term digital radio systems. The Stryker is deployable by C-130 aircraft and combat capable upon arrival. The Stryker is capable of self-deployment by highway and self-recovery. It has a low noise level that reduces crew fatigue and enhances survivability. It moves about the battlefield quickly and is optimized for close, complex, or urban terrain. The Stryker program leverages non-developmental items with common subsystems and components to quickly acquire and field these systems. Stryker is UNCLASSIFIED.

2. The AN/VAS-5 Driver's Vision Enhancer (DVE) is a compact thermal camera providing armored vehicle drivers with day or night time visual awareness in clear or reduced vision (fog, smoke, dust) situation. The system provides the driver a 180 degree viewing angle using a high resolution infrared sensor and image stabilization to reduce the effect of shock and vibration. The viewer and monitor are ruggedized for operation in tactical environments. The system is UNCLASSIFIED but considered SENSITIVE technology.

3. If a technologically advanced adversary were to obtain knowledge of the specific hardware and software elements, the information could be used to develop countermeasures that might reduce weapon system effectiveness or be used in the development of a system with similar or advanced capabilities.

4. A determination has been made that Thailand can provide substantially the same degree of protection for the technology being released as the U.S. Government. This sale supports the U.S. foreign policy and national security objectives as outlined in the Policy Justification.

5. All defense articles and services listed in this transmittal have been authorized for release and export to Thailand.

[FR Doc. 2019-20836 Filed 9-24-19; 8:45 am]

BILLING CODE 5001-06-P